OFFICE OF THE UNITED STATES TRADE REPRESENTATIVE

Correction: Modification of U.S. Tariff-Rate Quotas and the Harmonized Tariff Schedule of the United States

AGENCY: Office of the United States Trade Representative.

ACTION: Correction.

SUMMARY: The U.S. Trade Representative published a notice in the Federal Register on July 6, 2021 (July 6 notice), modifying the Harmonized Tariff Schedule of the United States (HTSUS) to divide certain U.S. tariff-rate quotas (TRQs) currently allocated to the European Union (EU), between the EU and the United Kingdom (UK) as a result of Brexit and to reflect changes in the composition of the EU. This notice corrects an error in the July 6 notice in paragraph 5 of the section titled Modification of the HTSUS. The operative language of paragraph 5 is not affected.

DATES: The changes made by the July 6 notice, as modified by this correction, are applicable as of January 1, 2022.

FOR FURTHER INFORMATION CONTACT: Joan E. Hurst, Office of Agricultural Affairs, at 202-395-6117, or Joan_E_Hurst@ustr.eop.gov.

SUPPLEMENTARY INFORMATION: In the July 6 notice (86 FR 35560), the U.S. Trade Representative divided the TRQs allocated to the EU under Additional U.S. Notes 6 and 16 to 18 to chapter 4 and Additional U.S. Note 5(a) to chapter 24 of the HTSUS between the EU and the UK according to the average percentage of in-quota imports for the 2013-2015 period, and determined that the UK will have access to a specific in-quota quantity under these notes.

The Office of the United States Trade Representative (USTR) has become aware of a ministerial error in paragraph 5 of the section of the notice titled Modification of the HTSUS. This paragraph indicates that Additional U.S. Note 5(a) to chapter 24 of the HTSUS is to be modified, in part, by deleting the quantity “10,000” in the Quantity (metric tons) column for the EU27 and inserting the quantity “9,956” in the Quantity (metric tons) column for the EU27 in lieu thereof. USTR is correcting this paragraph to indicate that Additional U.S. Note 5(a) to chapter 24 of the HTSUS is to be modified, in part, by deleting the quantity “10,000” in the Quantity (metric tons) column for the European Community and inserting the quantity “9,956” in the Quantity (metric tons) column for the European Community in lieu thereof.

For ease of reference, the entirety of the changes, as corrected by this notice, is published below:

Modification of the HTSUS

Effective with respect to articles entered for consumption, or withdrawn from warehouse for consumption, on or after January 1, 2022:

1. Additional U.S. Note 2 to chapter 4 of the HTSUS is modified by: (a) Inserting “Croatia,” into the list of countries in alphabetical order; and (b) deleting “the Slovak Republic, Sweden or the United Kingdom” and inserting “the Slovak Republic or Sweden” in lieu thereof.

2. Additional U.S. Note 16 to chapter 4 of the HTSUS is modified by: (a) Inserting “United Kingdom” into the list of countries in alphabetical order; (b) inserting a quota quantity of “2,213,374” in the Quantity (kg) column for the United Kingdom; (c) deleting the quantity “27,846,224” in the Quantity (kg) column for the EU27; and (d) inserting “25,632,850” in the Quantity (kg) column for the EU27 in lieu thereof.

3. Additional U.S. Note 17 to chapter 4 of the HTSUS is modified by: (a) Inserting “United Kingdom” into the list of countries in alphabetical order; (b) inserting a quota quantity of “23,617” in the Quantity (kg) column for the United Kingdom; (c) deleting the quantity “2,829,000” in the Quantity (kg) column for the EU27; and (d) inserting “2,805,383” in the Quantity (kg) column for the EU27 in lieu thereof.

4. Additional U.S. Note 18 to chapter 4 of the HTSUS is modified by: (a) inserting “United Kingdom” into the list of countries in alphabetical order; (b) inserting a quota quantity of “895,948” in the Quantity (kg) column for the United Kingdom; (c) deleting the quantity “1,313,000” in the Quantity (kg) column for the EU27; and (d) inserting “417,052” in the Quantity (kg) column for the EU27 in lieu thereof.

5. Additional U.S. Note 5(a) to chapter 24 of the HTSUS is modified by: (a) Deleting “Spain, Sweden, and the United Kingdom” and inserting “Spain, and Sweden” in lieu thereof; (b) inserting “United Kingdom” in the list of countries in alphabetical order; (c) inserting a quota quantity of “44” in the Quantity (metric tons) column for the United Kingdom; (d) deleting the quantity “10,000” in the Quantity (metric tons) column for the European Community; and (e) inserting the quantity “9,956” in the Quantity (metric tons) column for the European Community in lieu thereof.

Modification of the TRQ Allocation for Butter and Fresh or Sour Cream Containing Over 45 Percent by Weight of Butterfat

The U.S. Department of Agriculture annually publishes in the Federal Register the country allocations for Additional U.S. Note 6 to chapter 4 in appendices 1 and 2, pursuant to the Dairy Tariff-Rate Quota Import Licensing Regulation, 7 CFR part 6. With respect to the published in-quota quantity of 96,161 kilograms allocated to the EU 27 for the TRQ in Additional U.S. Note 6 to chapter 4 of the HTSUS, the U.S. Trade Representative has determined that, effective with respect to articles entered, or withdrawn from warehouse for consumption, on or after January 1, 2022, the UK shall have access to a quantity of not less than 14,062 kilograms and the EU 27 shall have access to a quantity of not less than 82,099 kilograms.

Greta Peisch,
General Counsel, Office of the United States Trade Representative.

[FR Doc. 2021-27938 Filed 12-23-21; 8:45 am]

BILLING CODE 3290-F2-P